DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 21, 2010.

Address Comments to: Record Center, Pipeline and Hazardous Materials, Safety Administration, U.S. Department of Transportation, Washington, DC 20590.

Comments should refer to the application number and be submitted in triplicate. If confirmation of receipt of comments is desired, include a self-addressed stamped postcard showing the special permit number.

For Further Information: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on April 14, 2010.
Delmer F. Billings,
Director, Office of Hazardous Materials Special Permits and Approvals.

New Special Permits
Application No. | Docket No. | Applicant | Regulation(s) affected | Nature of special permits thereof
14985-N |  | Southern States, LLC, Atlanta, GA | 49 CFR 173.304a | To authorize the transportation in commerce of non-DOT specification pressure vessels containing sulfur hexafluoride intended as components of electric utility circuit interrupter units. (modes 1, 2, 3, 4, 5)
14986-N |  | National Aeronautics and Space Administration (NASA) Kennedy Space Center, FL | 49 CFR 173.302a | To authorize the transportation in Nitrogen, compressed in alternative packaging (a Flex Hose Rotary Coupler Integrated assembly). (modes 1, 4)
14988-N |  | Luxfer Gas Cylinders, Riverside, CA | 49 CFR 173.302a, 173.304a, and 180.205 | To authorize the manufacture, marking, sale and use of non-DOT specification fully wrapped carbon fiber composite cylinders with seamless aluminum liners for the transportation in commerce of certain Division 2.1 and 2.2 gases. (modes 1, 2, 3, 4, 5)
14989-N |  | Vinci-technologies | 49 CFR 173.201, 173.302a, 173.304a and 173.301(f) | To authorize the transportation of certain hazardous materials in non-DOT specification cylinders which are not equipped with pressure relief devices. (modes 1, 2, 3, 4)
14990-N |  | Manufacturing Technologies Incorporated, Albuquerque, NM | 49 CFR 178.65 | To authorize the manufacture, marking, sale and use of non-DOT specification cylinders conforming to the DOT Specification 39 except they are manufactured from stainless steel. (modes 1, 2, 3, 4, 5)
14991-N |  | Intex Recreation Corp., Long Beach, CA | 49 CFR 173.150 and 172.316 | To authorize the transportation in commerce of above ground swimming pool kits containing one .2 ounce tube of flammable adhesive each without being marked ORM-D and exceeding the 66 pound weight restriction. (mode 1)
14992-N |  | VIP Transport, Inc., Corona, CA | 49 CFR 173.196 and 173.199 | To authorize the transportation in commerce of Division 6.2 infectious and Biological substance materials in alternative packaging (freezers). (mode 1)
14994-N |  | Auto-Chlor System, Memphis, TN | 49 CFR 173.28(b)(4)(i) | To authorize the transportation in commerce of certain 1 gallon plastic drums that are reused without meeting the minimum thickness requirement on corners and undercut areas. (mode 1)

[FR Doc. 2010-9037 Filed 4-20-10; 8:45 am]

BILLING CODE 4909-60-M